DEPARTMENT OF THE INTERIOR

Bureau of Land Management

[ID-933-4310-ET; GPO-02-0002; IDI-34179]

Notice of Proposed Withdrawal and Opportunity for a Public Meeting; Idaho

AGENCY: Bureau of Land Management, Interior.

ACTION: Notice.

SUMMARY: This notice notifies the public that the Forest Service proposes to withdraw approximately 150 acres of National Forest System lands in the Panhandle National Forest from nonmetalliferous mining for a period of 20 years. The lands contains gem quality garnet deposits and lies adjacent to the nationally known Emerald Creek garnet deposit. The withdrawal would protect the streams and facilitate planned development of the public garnet collection area. Subject to valid existing rights, this notice segregates the National Forest System lands described below for up to 2 years from location and entry under the United States mining laws. The lands have been and will remain open to such forms of disposition as may by law be made of National Forest System lands and mineral leasing.

DATES: The effective date of the Panhandle National Forest withdrawal application is December 20, 2002. Comments on the new proposed withdrawal must be received by March 20, 2003.

ADDRESSES: Comments should be sent to the State Director, Bureau of Land Management, 1387 South Vinnell Way, Boise, Idaho 83709.

FOR FURTHER INFORMATION CONTACT: Jackie Simmons, BLM, Idaho State Office, 1387 S. Vinnell Way, Boise, Idaho 83709, 208-373-3867.

SUPPLEMENTARY INFORMATION: On May 23, 2002, the United States Forest Service, filed an application to withdraw the following described National Forest System lands from location and entry under the United States mining laws, subject to valid existing rights:

Boise Meridian

Panhandle National Forest

T. 42 N., R.1 W.,

Sec. 10, NE¼SW¼SE¼SE¼, and S½SW¼SE¼SE¼, and N½SE¼SE¼SE¼, and SW¼SE¼SE¼SE¼;

Sec. 11, NW¼SE¼SW¼SW¼, and NE¼NW¼,SE¼SE¼;

Sec. 12, E½W½SW¼NE¼, and NE¼SW¼NW¼, and NW¼SW¼SE¼NW¼, and SE¼SW¼SE¼NW¼, and W½NE¼NE¼SW¼, and NE¼NW¼NE¼SW¼, and SE¼NE¼SW¼, and SE¼SE¼NE¼SE¼, and E½E½NW¼SE¼, and E½NW¼NW¼SE¼, and W½SW¼NW¼SE¼, and NE¼SE¼SE¼, and W½SE¼SE¼SE¼;

Sec. 13, NE¼NE¼NE¼, and NE¼SE¼NE¼NE¼, and S½SE¼SE¼NE¼, and SW¼SE¼SW¼NW¼, and SE¼SW¼SE¼NW¼, and SE¼SW¼SE¼SW¼;

Sec. 14, S½SW¼SW¼NE¼, and SW¼NE¼NE¼NW¼, and NW¼NW¼NE¼NW¼, and SE¼SW¼SE¼NW¼, and S½SE¼SE¼NW¼,

Sec. 15, NW¼NW¼NE¼NE¼, and N½NE¼NW¼NE¼

The area described contains approximately 150.00 acres in Latah County, Idaho.

For a period of 90 days from the date of publication of this notice, all persons who wish to submit comments, suggestions, or objections in connection with the proposed withdrawal may present their views in writing to the Idaho State Director, Bureau of Land Management, at the address stated above.

Notice is hereby given that an opportunity for a public meeting is afforded in connection with the proposed withdrawal. All interested persons who desire a public meeting for the purpose of being heard on the proposed withdrawal must submit a written request to the Idaho State Director within 90 days from the date of publication of this notice. Upon determination by the authorized officer that public meeting will be held, a notice of the time and place will be published in the Federal Register at least 30 days before the scheduled date of the meeting.

The application will be processed in accordance with the regulations set forth in 43 CFR part 2300.

Dated: June 19, 2002.
Jimmie Buxton,
Branch Chief for Lands and Minerals.

[FR Doc. 02-32061 Filed 12-19-02; 8:45 am]

BILLING CODE 4310-GG-U